DEPARTMENT OF ENERGY

Federal Energy Regulatory Commission

Notice of Commission Staff Attendance

The Federal Energy Regulatory Commission hereby gives notice that members of the Commission's staff may attend the following meetings related to the transmission planning activities of the Midwest Independent Transmission System Operator, Inc. (MISO):

MISO-PJM Order 1000 Interregional Coordination Workshop—December 5, 2012.

MISO-SPP Order 1000 Interregional Coordination Workshop—December 17, 2012.

The above-referenced meeting will be held at: MISO Headquarters, 720 City Center Drive, Carmel, IN 46032.

The above-referenced meeting is open to the public.

Further information may be found at www.misoenergy.org.

The discussions at the meeting described above may address matters at issue in the following proceedings:

Docket No. ER10-1791, Midwest Independent Transmission System Operator, Inc.

Docket No. ER10-1997, Midwest Independent Transmission System Operator, Inc.

Docket No. ER11-1844, Midwest Independent Transmission System Operator, Inc.

Docket No. ER11-2700, Midwest Independent Transmission System Operator, Inc.

Docket No. ER11-4081, Midwest Independent Transmission System Operator, Inc.

Docket No. ER11-4514, Midwest Independent Transmission System Operator, Inc.

Docket No. ER11-2777, Midwest Independent Transmission System Operator, Inc. and Ameren Illinois Company

Docket No. ER12-309—Midwest Independent Transmission System Operator, Inc.

Docket No. ER12-427, Midwest Independent Transmission System Operator, Inc.

Docket No. ER12-480, Midwest Independent Transmission System Operator, Inc.

Docket No. ER12-678, Midwest Independent Transmission System Operator, Inc.

Docket No. ER12-715, Midwest Independent Transmission System Operator, Inc.

Docket No. ER12-747, Midwest Independent Transmission System Operator, Inc.

Docket No. ER12-1265, Midwest Independent Transmission System Operator, Inc.

Docket No. ER12-1266, Midwest Independent Transmission System Operator, Inc.

Docket No. ER12-1586, Southwest Power Pool, Inc.

Docket No. ER12-1835, Midwest Independent Transmission System Operator, Inc.

Docket No. ER12-1928, Midwest Independent Transmission System Operator, Inc.

Docket No. ER12-2682, Midwest Independent Transmission System Operator, Inc.

Docket No. ER13-37, Midwest Independent Transmission System Operator, Inc.

Docket No. ER13-38, Midwest Independent Transmission System Operator, Inc.

Docket No. ER13-89, MidAmerican Energy Company and Midwest Independent Transmission System Operator, Inc.

Docket No. ER13-101, American Transmission Company LLC and Midwest Independent Transmission System Operator, Inc.

Docket No. ER13-186, Midwest Independent Transmission System Operator, Inc.

Docket No. ER13-187, Midwest Independent Transmission System Operator, Inc.

Docket No. EL11-30, E.ON Climate & Renewables North America, LLC v. Midwest Independent Transmission System Operator, Inc.

Docket No. EL11-34, Midwest Independent Transmission System Operator, Inc.

Docket No. EL11-53, Shetek Wind Inc., Jeffers South LLC and Allco Renewable Energy Limited v. Midwest Independent Transmission System Operator, Inc.

Docket No. EL11-56, FirstEnergy Service Company v. Midwest Independent Transmission System Operator, Inc.

Docket No. EL12-24, Pioneer Transmission LLC v. Midwest Independent Transmission System Operator, Inc.

Docket No. EL12-28, Xcel Energy Services Inc. v. American Transmission Company, LLC

Docket No. EL12-35, Midwest Independent Transmission System Operator, Inc.

Docket No. EL13-9, American Transmission Company v. Midwest Independent Transmission System Operator, Inc. and Xcel Energy Services, Inc.

Docket No. OA08-53, Midwest Independent Transmission System Operator, Inc.

For more information, contact Jason Strong, Office of Energy Markets Regulation, Federal Energy Regulatory Commission at (202) 502-6124 or jason.strong@ferc.gov.

Dated: December 3, 2012.
Kimberly D. Bose,
Secretary.

[FR Doc. 2012-29796 Filed 12-10-12; 8:45 am]

BILLING CODE 6717-01-P